DEPARTMENT OF JUSTICE

Notice of Lodging of Consent Decree Under the Comprehensive Environmental Response, Compensation and Liability Act

Notice is hereby given that on August 30, 2011, a proposed Consent Decree in United States of America and the Commonwealth of Pennsylvania v. Schwab Family Partnership, et al., Civil Action No. 2:10-cv-00412-JD, D.J. Ref. 90-11-2-07622/2, was lodged with the United States District Court for the Eastern District of Pennsylvania.

In this action the United States and the Commonwealth of Pennsylvania sought reimbursement of response costs incurred and to be incurred in connection with the release or threatened release of hazardous substances at the Franklin Smelting Superfund Site and the Franklin Slag Superfund Site in Philadelphia, Pennsylvania (the “Sites”). The Consent Decree obligates the Settling Defendants to pay a total of $2,783,750 to the United States and $491,250 to the Commonwealth in reimbursement of past response costs incurred at the Sites. The Settling Defendants will also assign their rights to any future recovery on insurance policies related to business operations at the Sites, and one Settling Defendant will contribute the net proceeds from the sale of two properties to the settlement. The amounts to be paid by each Settling Defendant were agreed upon after review of financial information and a determination of what he or she could pay without incurring undue financial hardship, in accordance with the Environmental Protection Agency's Ability-to-Pay guidance.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States of America and the Commonwealth of Pennsylvania v. Schwab Family Partnership, et al., Civil Action No. 2:10-cv-00412-JD, D.J. Ref. 90-11-2-07622/2.

The Consent Decree may be examined at the Office of the United States Attorney, Eastern District of Pennsylvania, 615 Chestnut Street, Suite 1250, Philadelphia, PA 19106, and at U.S. EPA Region 3. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $14.25 (@ 25 cents per page reproduction cost) payable to the U.S. Treasury or, if by email or fax, forward a check in that amount to the Consent Decree Library at the stated address.

Robert Brook,
Assistant Chief, Environmental Enforcement Section, Environment and Natural Resources Division.

[FR Doc. 2011-22786 Filed 9-6-11; 8:45 am]

BILLING CODE 4410-15-P